DEPARTMENT OF ENERGY

Proposed Subsequent Arrangement

AGENCY: Office of Nonproliferation and International Security, Department of Energy.

ACTION: Proposed subsequent arrangement.

SUMMARY: This notice is being issued under the authority of the Atomic Energy Act of 1954, as amended. The Department is providing notice of a proposed subsequent arrangement under paragraph 2 of Article 6 of the Agreement for Cooperation between the American Institute in Taiwan and the Taipei Economic and Cultural Representative Office in the United States Concerning Peaceful Uses of Nuclear Energy, done at Washington on December 20, 2013 (123 Agreement).

DATES: This subsequent arrangement will take effect no sooner than November 19, 2014.

FOR FURTHER INFORMATION CONTACT: Ms. Katie Strangis, Office of Nonproliferation and International Security, National Nuclear Security Administration, Department of Energy. Telephone: 202-586-8623 or email: Katie.Strangis@nnsa.doe.gov.

SUPPLEMENTARY INFORMATION: This subsequent arrangement concerns the alteration in form or content of irradiated fuel elements which are subject to obligations to the American Institute in Taiwan (AIT) pursuant to the 123 Agreement, and which are to take place in a hot cell laboratory at the Institute of Nuclear Energy Research (INER) in Lungtan, Taiwan. Approximately thirty-six irradiated light water reactor fuel rods are expected to be transferred to the INER hot cell laboratory for post irradiation examination and failure root cause analysis and 80 cans of spent fuel pool sludge from the Taiwan Research Reactor will be transferred to the hot cell laboratory for stabilization. These activities, in support of nuclear power-related research activities, are described in the “Irradiated Fuels and Material Research Program from 2014 to 2020,” dated October 2013 and in “Summary of the Irradiated Fuels and Materials Research Program from 2014 to 2020.” This subsequent arrangement is effective until December 31, 2020.

In accordance with section 131a. of the Atomic Energy Act of 1954, as amended, it has been determined that this subsequent arrangement will not be inimical to the common defense and security of the United States of America.

Dated: October 9, 2014.
For the Department of Energy.
Anne M. Harrington,
Deputy Administrator, Defense Nuclear Nonproliferation.

[FR Doc. 2014-26163 Filed 11-3-14; 8:45 am]

BILLING CODE 6450-01-P